DEPARTMENT OF ENERGY

Federal Energy Regulatory Commission

[Docket No. CP03-7-001]

Colorado Interstate Gas Company; Notice of Compliance Filing

November 7, 2003.

Take notice that on October 30, 2003, Colorado Interstate Gas Company (CIG) tendered for filing and acceptance by the Federal Energy Regulatory Commission (Commission) the following tariff sheets to its FERC Gas Tariff, First Revised Volume No. 1, to become effective November 30, 2003.

Tenth Revised Sheet No. 230A

Seventh Revised Sheet No. 230B

First Revised Sheet No. 230C

CIG states that these tariff sheets are filed to establish a recovery methodology for electricity commodity expenses related to new electric air compression facilities on the CIG system in compliance with the Commission's February 28, 2003 Order in this proceeding.

Any person desiring to protest said filing should file a protest with the Federal Energy Regulatory Commission, 888 First Street, NE., Washington, DC 20426, in accordance with Section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the eFiling link.

Magalie R. Salas,
Secretary.

[FR Doc. E3-00298 Filed 11-18-03; 8:45 am]

BILLING CODE 6717-01-P